DEPARTMENT OF ENERGY

Federal Energy Regulatory Commission

[Project No. 15030-000]

Desert Pumped Storage, LLC; Notice of Preliminary Permit Application Accepted for Filing and Soliciting Comments, Motions To Intervene, and Competing Applications

On April 27, 2020, Desert Pumped Storage LLC, filed an application for a preliminary permit, pursuant to section 4(f) of the Federal Power Act (FPA), proposing to study the feasibility of the SilverKing 2 Energy Storage Project (SilverKing 2 Project or project), a closed-loop pumped storage project to be located in Gila County, Arizona. The sole purpose of a preliminary permit, if issued, is to grant the permit holder priority to file a license application during the permit term. A preliminary permit does not authorize the permit holder to perform any land-disturbing activities or otherwise enter upon lands or waters owned by others without the owners' express permission.

The proposed project would consist of the following: (1) A new 33-foot-high dam with a total crest length of 9,780 feet, creating a 2,047 acre-foot upper reservoir with a maximum surface elevation of 1,499 feet above mean sea level; (2) two 3,329-foot-long, 10-foot-diameter steel penstocks that would connect the upper and lower reservoirs after passing through the powerhouse; (3) a new powerhouse to be located close to the afterbay with an approximate elevation of 1,210 feet above mean sea level with four 25-megawatt generator units with a total installed generation capacity of 100 megawatts and associated switchgear and controls; (4) an approximately 100-foot-long, 14-foot-diameter tailrace low pressure draft tube between the powerhouse and the lower reservoir; (5) a new 98-foot-high dam with a total crest length of 3,273 feet, creating a 1,846 acre-foot lower reservoir, with a maximum surface elevation of 1,210 feet above mean sea level that will utilize an existing waste rock dump of an open pit mine; (6) a new 200 mega-volt ampere (MVA) substation located adjacent to the lower reservoir; (7) an approximately 500-foot-long new 230-kilovolt transmission line from the new substation to the existing transmission lines owned by Salt River Project Agricultural Improvement and Power District; and (8) appurtenant facilities. The estimated average annual generation of the SilverKing 2 Project would be 400 gigawatt-hours.

Applicant Contact: Dr. Michael Werner, Desert Pumped Storage LLC, 7425 East Columbia Drive, Spokane, Washington 99212; phone: (509) 280-7486.

FERC Contact: Khatoon Melick, (202) 502-8433, khatoon.melick@ferc.gov.

Deadline for filing comments, motions to intervene, competing applications (without notices of intent), or notices of intent to file competing applications: 60 days from the issuance of this notice. Competing applications and notices of intent must meet the requirements of 18 CFR 4.36.

The Commission strongly encourages electronic filing. Please file comments, motions to intervene, notices of intent, and competing applications using the Commission's eFiling system at https://ferconline.ferc.gov/FERCOnline.aspx. Commenters can submit brief comments up to 6,000 characters, without prior registration, using the eComment system at https://ferconline.ferc.gov/QuickComment. aspx. You must include your name and contact information at the end of your comments. For assistance, please contact FERC Online Support at FERCOnlineSupport@ferc.gov, (866) 208-3676 (toll free), or (202) 502-8659 (TTY). In lieu of electronic filing, you may submit a paper copy. Submissions sent via the U.S. Postal Service must be addressed to: Kimberly D. Bose, Secretary, Federal Energy Regulatory Commission, 888 First Street NE, Room 1A, Washington, DC 20426. Submissions sent via any other carrier must be addressed to: Kimberly D. Bose, Secretary, Federal Energy Regulatory Commission, 12225 Wilkins Avenue, Rockville, Maryland 20852. The first page of any filing should include docket number P-15030-000.

More information about this project, including a copy of the application, can be viewed or printed on the “eLibrary” link of Commission's website at https://www.ferc.gov/ferc-online/elibrary/overview. Enter the docket number (P-15030) in the docket number field to access the document. For assistance, contact FERC Online Support.

Dated: March 11, 2021.
Nathaniel J. Davis, Sr.,
Deputy Secretary.

[FR Doc. 2021-05493 Filed 3-16-21; 8:45 am]

BILLING CODE 6717-01-P